DEPARTMENT OF AGRICULTURE

Food and Nutrition Service

Agency Information Collection Activities: Proposed Collection; Comment Request—National School Lunch Program/School Breakfast Program Access, Participation, Eligibility, and Certification Study (APEC Study)

AGENCY: Food and Nutrition Service, USDA.

ACTION: Notice and request for comments.

SUMMARY: In accordance with the Paperwork Reduction Act of 1995, this notice announces the Food and Nutrition Service's intention to request Office of Management and Budget approval of the data collection instruments for the APEC study.

DATES: Written comments on this notice must be received by May 10, 2005, to be assured of consideration.

ADDRESSES: Comments may be sent to Alberta C. Frost, Director, Office of Analysis, Nutrition, and Evaluation, Food and Nutrition Service, U.S. Department of Agriculture, 3101 Park Center Drive, Room 1014, Alexandria, VA 22302.

Comments are invited on: (a) Whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on those who are to respond, including through the use of appropriate, automated, electronic, mechanical, or other technological collection techniques or other forms of information technology.

All responses to this notice will be summarized and included in the request for Office of Management and Budget (OMB) approval of the information collection. All comments will also become a matter of public record.

FOR FURTHER INFORMATION CONTACT: Requests for additional information or copies of the proposed information collection forms should be directed to Alberta C. Frost, (703) 305-2017.

SUPPLEMENTARY INFORMATION: Title: National School Lunch Program/School Breakfast Program Access, Participation, Eligibility, and Certification Study (APEC study).

OMB Number: Not yet assigned.

Expiration Date: N/A.

Type of Request: New collection of information.

Abstract: The Improper Payments Information Act of 2002, Public Law 107-300, requires the United States Department of Agriculture (USDA) to identify and reduce erroneous payments in various programs, including the National School Lunch Program (NSLP) and School Breakfast Program (SBP). An OMB directive, issued May 21, 2003, states that an annual erroneous payment estimate is the gross (not net) total of both overpayments and underpayments, i.e., the sum of the absolute value of overpayments and underpayments. To comply with the Improper Payments Information Act, USDA needs a reliable measure to estimate NSLP and SBP erroneous payments on an annual basis. Therefore, USDA is conducting a nationally representative study that will collect data from school districts and households in School Year 2005-2006 for calculating national estimates of certification and payment errors and provide overall national estimates of erroneous payments in NSLP and SBP that would be the gross of overpayments and underpayments. It would be cost prohibitive to conduct a large nationally representative study on a yearly basis. Therefore, estimation models will be developed that will utilize the data collected during this study, augmented with available extant data sources in future years to generate updated yearly estimates of overpayments, underpayments and overall erroneous payments in NSLP and SBP until the next large on-site data collection is undertaken.

In addition to the annual national erroneous payment estimate based on misclassification of participating students' school meal eligibility status, this study will also provide national estimates of payment errors due to the improper counting and claiming of meals served under the NSLP and the SBP. The on-site data collected for this study, including household characteristic data, will also be used for informing program access issues including barriers and deterrence to participation.

In School Year 2005-2006 on-site data collection activities will be conducted in a nationally representative sample of schools selected from school districts across the 48 contiguous States and the District of Columbia. Data to be collected will include school administrative records, household income from parents/guardians and other information that will inform this study. OMB approval will be requested for the data collection instruments to be used for the APEC study.

Respondents:

Respondents include: (a) State Child Nutrition Agency Directors; (b) School Food Service Directors; (c) school financial administrative staff; (d) school liaisons; and (e) households.

Estimated Number of Respondents:

Respondents include: (a) 51 State Child Nutrition Agency Directors; (b) 100 School Food Service Directors; (c) 360 school financial administrative staff; (d) 360 school liaisons; and (e) 5,300 households.

Estimated Number of Responses per Respondent: Multiple responses will be obtained from most respondents with the exception of the State Child Nutrition Agency Directors and 4,300 households, who will be interviewed once. One thousand households will be interviewed twice. School financial administrative staff and school liaisons will be providing the contractor?s field staff the data or the access to administrative data on a recurring basis throughout the School Year.

Estimate of Burden:

Public reporting burden is estimated to range from 45 minutes for the household interview to 170 minutes for School Food Service Directors to complete fact sheets, provide claim data and be interviewed.

Estimated Total Annual Burden on Respondents: 5,525 hours.

(a) State Child Nutrition Agency Directors (51 × 90 minutes) = 76.5 hours; (b) School Food Service Directors (100 × 170 minutes) = 283.3 hours; (c) school financial administrative staff ((330 × 15 minutes + (360 × 60 minutes) + (360 × 15 minutes)) = 532.5 hours; (d) school liaisons ((300 × 30 minutes) + (30 × 15 minutes)) = 157.5 hours; and (e) households ((5,300 × 45 minutes) + (1,000 × 30 minutes)) = 4,475 hours.

Dated: March 8, 2005.
Roberto Salazar,
Administrator, Food and Nutrition Service.

[FR Doc. 05-4968 Filed 3-11-05; 8:45 am]

BILLING CODE 3410-30-P